COMMISSION ON CIVIL RIGHTS

Agenda and Notice of Public Meeting of the Western Region State Advisory Committees

Notice is hereby given, pursuant to the provisions of the rules and regulations of the U.S. Commission on Civil Rights, that a conference call among the “Western Regional” advisory committee to the U.S. Commission on Civil Rights in the Western Region (Alaska, Arizona, California, Hawaii, Idaho, Nevada, Oregon, Texas and Washington) will convene at 2 p.m. (P.d.t.) and adjourn at 3 p.m., Friday, June 13, 2003. The purpose of the conference call is to offer suggestions on how advisory committees to the U.S. Commission on Civil Rights may engage in activities that are meaningful and measurable.

This conference call is available to the public through the following call-in number: 1-800-659-8290, access code number 17026197. Any interested member of the public may call this number and listen to the meeting. Callers can expect to incur charges for calls not initiated using the provided call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Philip Montez of the Western Regional Office, (213) 894-3437, by 3 p.m. on Thursday, June 12, 2003.

The meeting will be conducted pursuant to the provisions of the rules and regulations of the Commission.

Dated in Washington, DC, May 19, 2003.
Ivy L. Davis,
Chief, Regional Programs Coordination Unit.

[FR Doc. 03-13184 Filed 5-23-03; 8:45 am]

BILLING CODE 6335-01-P